DEPARTMENT OF COMMERCE

National Oceanic and Atmospheric Administration

50 CFR Part 635

[I.D. 071504A]

Atlantic Highly Migratory Species; Atlantic Bluefin Tuna Fisheries

AGENCY: National Marine Fisheries Service (NMFS), National Oceanic and Atmospheric Administration (NOAA), Commerce.

ACTION: Atlantic bluefin tuna retention limit adjustment.

SUMMARY: NMFS has determined that the Atlantic bluefin tuna (BFT) General category daily retention limit should be adjusted in order to allow for maximum utilization of the General category June through August time-period subquota. Therefore, NMFS increases the daily retention limit to two large medium or giant BFT through August 31, 2004. This action is being taken to provide increased opportunities to harvest the time-period General category quota.

DATES: Effective July 19, 2004 through August 31, 2004.

FOR FURTHER INFORMATION CONTACT: Brad McHale, 978-281-9260.

SUPPLEMENTARY INFORMATION: Regulations implemented under the authority of the Atlantic Tunas Convention Act (16 U.S.C. 971 et seq.) and the Magnuson-Stevens Fishery Conservation and Management Act (Magnuson-Stevens Act; 16 U.S.C. 1801 et seq.) governing the harvest of BFT by persons and vessels subject to U.S. jurisdiction are found at 50 CFR part 635. Section 635.27 subdivides the U.S. BFT quota recommended by the International Commission for the Conservation of Atlantic Tunas (ICCAT) among the various domestic fishing categories, and General category effort controls (including time-period subquotas and restricted fishing days (RFDs)) are specified annually under the procedures identified at 50 CFR 635.23(a) and 635.27(a). NMFS is in the process of establishing the 2004 annual BFT quota specifications. Consistent with the requirements of the fishery management plan and implementing regulations, it is anticipated that time period subquotas will be established for the General category at levels similar to past years.

Adjustment of Daily Retention Limit

Under § 635.23 (a)(4), NMFS may increase or decrease the General category daily retention limit of large medium and giant BFT over a range from zero (on RFDs) to a maximum of three per vessel to allow for maximum utilization of the quota for BFT. Based on a review of dealer reports, daily landing trends, available quota, and the availability of BFT on the fishing grounds, NMFS has determined that an increase of the daily retention limit for the remainder of the June through August time-period is appropriate and necessary. Current catch rates in the General category amount to approximately 0.5 metric tons (mt) or two fish per day. Based on this current General category landings rate the June through August subquota will not be filled in the remaining fishing days prior to the end of August, thus resulting in an excessive quota rollover to the September time-period subquota. This data is similar to low landings rates at this time last year when it was also determined that the daily retention should be increased. Experience in prior years has shown that the retention limit increase had positive impacts on the fishery and favorable public response, if done expeditiously. Therefore, NMFS adjusts the General category daily retention limit through August 31 to two large medium or giant BFT per vessel.

The intent of this adjustment is to allow for maximum utilization by General category participants of the subquota for the June through August time-period (specified under 50 CFR 635.27(a)), to help achieve optimum yield in the General category fishery, to collect a broad range of data for stock monitoring purposes, and to be consistent with the objectives of the HMS FMP.

Closures or subsequent adjustments to the daily retention limit, if any, will be published in the Federal Register. In addition, owners/operators may call the Atlantic Tunas Information Line at (888) 872-8862 or (978) 281-9305 for updates on quota monitoring and retention limit adjustments.

Classification

The Assistant Administrator for Fisheries, NOAA (AA), finds that it is impracticable and contrary to the public interest to provide prior notice of, and an opportunity for public comment on, this action. Catch rates for the 2004 BFT season have been extremely low to date and at the current rate of landings it is not possible that the available quota will be harvested by August 31, 2004. NMFS has recently become aware of a slight increase of BFT available on the fishing grounds. This slight increase in abundance provides the potential to increase landings rates if General category participants are authorized to harvest two BFT. Delay in increasing the retention limits would adversely affect those General category vessels that would otherwise have an opportunity to harvest more than one BFT per day and would further exacerbate the problem of excessive quota rollovers. Large amounts of unharvested quota may have negative social and economic impacts to U.S. fishermen that depend upon catching the available quota within the time periods designated in the HMS FMP. Therefore, the AA finds good cause under 5 U.S.C. 553(b)(B) to waive prior notice and the opportunity for public comment. For all of the above reasons, and because this action relieves a restriction (i.e., allows the retention of more fish), there is also good cause under 5 U.S.C. 553(d) to waive the delay in effectiveness normally required for this action.

This action is being taken under 50 CFR 635.23(a)(4) and is exempt from review under Executive Order 12866.

Authority: 16 U.S.C. 971 et seq. and 1801 et seq.

Dated: July 15, 2004.
John H. Dunnigan,
Director, Office of Sustainable Fisheries, National Marine Fisheries Service.

[FR Doc. 04-16578 Filed 7-16-04; 2:43 pm]

BILLING CODE 3510-22-S